DEPARTMENT OF HEALTH AND HUMAN SERVICES

National Institutes of Health

Center For Scientific Review; Amended Notice of Meeting

Notice is hereby given of a change in the meeting of the Center for Scientific Review Special Emphasis Panel, November 17, 2015, 11:00 a.m. to November 17, 2015, 5:00 p.m., National Institutes of Health, 6701 Rockledge Drive, Bethesda, MD 20892 which was published in the Federal Register on October 22, 2015, 80 FR 64007.

The meeting notice is amended to change the date of the meeting from November 17, 2015 to December 3, 2015. The meeting time and location remains the same. The meeting is closed to the public.

Dated: October 23, 2015.
Anna Snouffer,
Deputy Director, Office of Federal Advisory Committee Policy.

[FR Doc. 2015-27584 Filed 10-28-15; 8:45 am]

BILLING CODE 4140-01-P